DEPARTMENT OF TRANSPORTATION

Federal Railroad Administration

Petition for Waiver of Compliance

In accordance with part 211 of Title 49 Code of Federal Regulations (CFR), notice is hereby given that the Alaska Railroad Corporation (ARRC) submitted a petition dated November 4, 1999, seeking a waiver of compliance from certain requirements of the Federal Railroad Administration's (FRA) Passenger Equipment Safety Standards (49 CFR part 238). The individual petition is described below, including the nature of the relief being requested and the petitioner's arguments in favor of relief.

Alaska Railroad Corporation

[Waiver Petition Docket Number FRA-1999-6517]

ARRC seeks a permanent waiver of compliance with certain provisions of 49 CFR part 238 for its “Whittier Shuttle” service between Portage and Whittier, Alaska. According to ARRC, this shuttle service involves a train typically consisting of one locomotive, ten to eighteen general service flatcars (modified with full bridge plates between cars), one to three gallery coaches, and a baggage car and caboose occupied only by train crew members. The train runs on a route of approximately 13 miles, including two tunnels of 1.0 and 2.5 miles in length, and is limited to 30 mph.

ARRC notes that Whittier is a port community originally constructed by the United States Government during the early years of the Second World War; there has never been an overland road to Whittier, and the shuttle service is vital to the residents of Whittier. This service transports highway vehicles, including buses, to and from Whittier on the flatcars. Passengers can choose between riding in the passenger coaches or remaining inside their highway vehicles on the flatcars while the train is in motion. Passengers who choose to ride in their highway vehicles are required to remain in their vehicles at all times. ARRC makes special provisions for emergency egress from buses as detailed in its Operating Circular No. 41 included with the petition. ARRC states that while the train is operated, the conductor occupies the car (caboose or baggage) at the opposite end of the train from the locomotive, and crew members have uninterrupted radio communication with each other. According to ARRC, there have been no injuries to any passengers as a result of the shuttle operation during its 28 years of service. ARRC adds that the state of Alaska is in the process of developing an infrastructure for highway travel to Whittier along the railroad right-of-way and expects highway travel to begin early this year. However, ARRC may need to provide limited shuttle service indefinitely for wide highway vehicle loads unable to pass through a tunnel by highway travel, depending on the final configuration of the road.

ARRC petitioned FRA for approval to continue use of its shuttle operation under 49 CFR 238.203(d) believing that its flat cars may not be in compliance with §§ 238.203(a)(1) and 238.231(i). Section 238.203(d) contains the procedures for a railroad to petition FRA for approval to grandfather usage of rail passenger equipment that does not comply with the static end strength requirements for rail passenger equipment in § 238.203(a). Specifically, § 238.203(a)(1) generally requires that on or after November 8, 1999, all passenger equipment resist a minimum static end load of 800,000 pounds applied on the line of draft without permanent deformation of the body structure. ARRC's petition explains that on the basis of strength calculations performed at the time the cars were built, the railroad flat cars used to transport highway passenger vehicles are able to support a compressive load of 1,250,000 pounds at failure. Section 238.203(b) provides that equipment placed in service before November 8, 1999, is presumed to comply with the requirements of paragraph (a)(1) unless the railroad operating the equipment has knowledge, or FRA makes a showing, that such passenger equipment was not built to the requirements specified in paragraph (a)(1). Consequently, unless FRA becomes aware the equipment does not meet the requirements of paragraph (a)(1), no grandfathering approval is required in this instance.

ARRC has also petitioned FRA for relief from the requirements of 49 CFR 238.231(i) which provides that passenger cars shall be equipped with a means to apply the emergency brake that is accessible to passengers and located in the vestibule or passenger compartment.

The passenger equipment safety standards in part 238 are geared toward the transportation of passengers in typical passenger equipment compartments that have side walls, roofs, windows, doors and other structures commonly found on rail passenger cars to provide protection to persons riding in those cars. See part 238 subparts B and C, standards for existing and new equipment; see also part 239, requirements for passenger train emergency preparedness.

The transportation of passengers on flat cars is not specifically addressed by part 238 and, therefore, a waiver of the requirements of part 238 is necessary to permit ARRC to continue the service. In particular, part 238 has the following requirements designed to protect passengers that ARRC flatcars may not meet (additional requirements would apply to any new equipment): emergency window exits designed to permit rapid and easy removal without requiring the use of a tool or other implement (§ 238.113); glazing (§ 238.221; part 223); safety appliances (§ 238.229); and brake system (§ 238.231, especially (i)—a means to apply the emergency brake that is accessible to passengers and located in the vestibule or passenger compartment). FRA assumes that ARRC is seeking relief from each of the enumerated sections, but will be consulting with ARRC whether this assumption is correct.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 1999-6517) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's web site at http://dms.dot.gov.

Issued in Washington, DC on March 29, 2000.
Grady C. Cothen, Jr.
Deputy Associate Administrator for Safety Standards and Program Development.

[FR Doc. 00-8166 Filed 4-3-00; 8:45 am]

BILLING CODE 4910-06-P